FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 012154-004.

Title: APL/Hamburg Süd Space Charter Agreement.

Parties: APL Co. Pte, Ltd. and American President Lines, Ltd. (acting as one party); and Hamburg Süd KG.

Filing Party: Eric C. Jeffrey, Esq.; Nixon Peabody LLP; 401 9th Street NW.; Suite 900, Washington, DC 20004.

Synopsis: The amendment updates the provisions for early termination and extends the agreement until March 31, 2016.

Agreement No.: 012228-001.

Title: COSCON/“K” Line/WHL/WHS Space Charter and Sailing Agreement.

Parties: COSCO Container Lines Co. Ltd.; Kawasaki Kisen Kaisha, Ltd.; Wan Hai Lines Ltd.; and Wan Hai Lines (Singapore) PTE Ltd.

Filing Party: Eric. C. Jeffrey, Esq; Nixon Peabody LLP; 555 West Fifth Street, 46th Floor; Los Angeles, CA 90013.

Synopsis: The amendment adds Wan Hai Lines Ltd. as a party to the agreement, changes the name of the agreement, and updates and restates the agreement.

Agreement No.: 012319-001.

Title: MOL/WWL Line Space Charter Agreement.

Parties: Mitsui O.S.K. Lines, Ltd. and Wallenius Wilhemsen Logistics AS.

Filing Party: Eric. C. Jeffrey, Esq.; Nixon Peabody LLP; 401 9th Street NW., Suite 900; Washington, DC 20004.

Synopsis: The Amendment would clarify the geographic scope of the Agreement.

Agreement No.: 012321-001.

Title: MOL/“K” Line Space Charter Agreement.

Parties: Mitsui O.S.K. Lines, Ltd. and Kawasaki Kisen Kaisha, Ltd.

Filing Party: Eric. C. Jeffrey, Esq.; Nixon Peabody LLP; 401 9th Street NW., Suite 900; Washington, DC 20004.

Synopsis: The Amendment would clarify the geographic scope of the Agreement.

Agreement No.: 012324-001.

Title: NMCC/Grimaldi Space Charter Agreement.

Parties: Grimaldi Deep Sea S.p.A; Grimaldi Euromed S.p.A.; Nissan Motor Car Carrier Co., Ltd.; World Logistics Service (U.S.A.), Inc.

Filing Party: Eric. C. Jeffrey, Esq.; Nixon Peabody LLP; 401 9th Street NW., Suite 900; Washington, DC 20004.

Synopsis: The Amendment would clarify the geographic scope of the Agreement.

By Order of the Federal Maritime Commission.
Dated: April 17, 2015.
Karen V. Gregory,
Secretary.

[FR Doc. 2015-09369 Filed 4-21-15; 8:45 am]

BILLING CODE 6731-AA-P